DEPARTMENT OF THE INTERIOR

Bureau of Land Management

[OR110-5882-PB-MX01; HAG02-0189]

Notice of Meetings

AGENCY: Bureau of Land Management, Interior.

ACTION: Notice of meetings.

SUMMARY: The Medford District Resource Advisory Committee will meet in Medford to tour project sites and to discuss proposed 2003 projects. Agenda topics include on-site inspections of 2002 projects and proposed 2003 projects, review of last meeting minutes, presentations on proposed fiscal year 2003 Title II projects, and discussion regarding proposed projects.

DATES: July 11, 2002, August 8, 2002, August 22, 2002, and August 25, 2002. The field trips on July 11, 2002 and August 25, 2002 will begin at 7 a.m. The meetings on August 8, 2002 and August 22, 2002 will begin at 10 a.m. A public comment period will be held from 2 p.m. to 2:30 p.m. The field trips and meetings are expected to adjourn at 4 p.m.

ADDRESSES: The field trips will start from, and the meetings will be held at, the Medford District Office, located at 3040 Biddle Road, Medford, Oregon.

FOR FURTHER INFORMATION CONTACT: Karen Gillespie, Medford District Office (541-618-2424).

Dated: April 15, 2002.
Ron Wenker,
District Manager.

[FR Doc. 02-12585 Filed 5-17-02; 8:45 am]

BILLING CODE 4310-33-P